DEPARTMENT OF AGRICULTURE

Animal and Plant Health Inspection Service

[Docket No. APHIS-2019-0062]

Decision To Authorize the Importation of Fresh Carrots From the Republic of Korea Into the United States

AGENCY: Animal and Plant Health Inspection Service, USDA.

ACTION: Notice.

SUMMARY: We are advising the public of our decision to authorize the importation of fresh carrots from the Republic of Korea into the United States. Based on the findings of a pest risk analysis, which we made available to the public to review and comment through a previous notice, we have concluded that the application of one or more phytosanitary measures will be sufficient to mitigate the risks of introducing or disseminating plant pests or noxious weeds via the importation of fresh carrots from the Republic of Korea into the United States.

DATES: The articles covered by this notification may be authorized for importation after June 5, 2020.

FOR FURTHER INFORMATION CONTACT: Ms. Carol Kreger, Regulatory Policy Specialist, Regulatory Coordination and Compliance, PPQ, APHIS, 4700 River Road Unit 133, Riverdale, MD 20737-1231; (301) 851-2356; carol.m.kreger@usda.gov.

SUPPLEMENTARY INFORMATION:

Background

Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into and spreading within the United States.

Section 319.56-4 of the regulations contains a notice-based process based on established performance standards for authorizing the importation of fruits and vegetables. The performance standards, known as designated phytosanitary measures, are listed in paragraph (b) of that section. Under the process, APHIS proposes to authorize the importation of a fruit or vegetable into the United States if, based on the findings of a pest risk analysis, we determine that the measures can mitigate the plant pest risk associated with the importation of that fruit or vegetable. APHIS then publishes a notice in the Federal Register announcing the availability of the pest risk analysis that evaluates the risks associated with the importation of that fruit or vegetable.

In accordance with that process, we published a notice ¹ in the Federal Register on November 12, 2019 (84 FR 61005-61006, Docket No. APHIS-2019-0062), in which we announced the availability, for review and comment, of a pest risk assessment (PRA). The assessment evaluated the risks associated with the importation into the United States of fresh carrots from the Republic of Korea. With the PRA was a risk management document (RMD), prepared to identify phytosanitary measures that could be applied to the commodity to mitigate the pest risk.

¹ To view the notice, PRA, RMD, economic effects assessment, and the comment that we received, go to http://www.regulations.gov/#!docketDetail;D=APHIS-2019-0062.

We solicited comments on the PRA and RMD for 60 days, ending on January 13, 2020. We received one comment by that date. It was from a private citizen.

The commenter opposed the importation of carrots from the Republic of Korea into the United States out of concern for pest risks that were currently unknown to APHIS and out of concern that imports be tested at ports of entry under importation oversight. Below, we respond to these comments by addressing their two topics, pest risks and import control measures.

Comments on the Pest Risk Assessment

APHIS received a request from the national plant protection organization (NPPO) of the Republic of Korea to allow the importation of fresh carrots into the United States. As part of our evaluation of the Republic of Korea's request, we prepared the PRA to identify pests of quarantine significance that could follow the pathway of importation of fresh carrots into the United States from the Republic of Korea.

The commenter expressed concern that unknown pests could be introduced into the United States as the result of importation of carrots from the Republic of Korea.

We understand this concern, yet APHIS finds no basis for changing our proposed action in response. As documentation associated with the public notice for comment shows, APHIS thoroughly and sufficiently assessed all possible risks from this importation and proposed conditions adequate to mitigate the possible risks. Our methodology for the PRA included careful examination of the scientific literature, port-of-entry pest interception data, and information the Government of the Republic of Korea furnished for our assessment. From these sources, we compiled a list of all plant pests with actionable regulatory status for the United States that are present in the Republic of Korea (on any host) and associated with the underground portion of carrots (anywhere in the world). We have confidence in the thorough nature of the pest list.

Moreover, the PRA identified only two quarantine pests with actionable regulatory status for the United States that could have a reasonable likelihood of being associated with the commodity following harvesting from the field and prior to any post-harvest processing, and thus potentially able to follow the pathway. These two pests are: Helicobasidium mompa and Sclerotinia nivalis, both phytopathogenic fungi. Based on the PRA, we prepared the RMD to identify phytosanitary measures that could be applied to the fresh carrots to mitigate the pest risk so that the pests would not be introduced into the United States.

Finally, we note that all shipments of carrots from the Republic of Korea will be subject to inspection for quarantine pests at the U.S. ports of entry. These inspections are for any pests of quarantine significance, not just those identified in the PRA. Additionally, APHIS monitors foreign countries for new introduction of quarantined pests.

The commenter also expressed concerns that there be proper oversight of imported products and testing to preclude both introduction of pests at importation and resulting spread of pests to plants in the United States.

We understand the commenter's concerns. However, we do not consider testing at ports of entry to be warranted and consider the mitigations in the RMD to be sufficient for the reasons set forth in the RMD.

We have concluded that fresh carrots can be safely imported from the Republic of Korea into the United States using one or more of the five designated phytosanitary measures listed in § 319.56-4(b). The NPPO of the Republic of Korea must enter into an operational work plan with APHIS that spells out the daily procedures the NPPO will take to implement the measures identified in the RMD.

Therefore, in accordance with § 319.56-4(c)(3)(iii), we are announcing our decision to authorize the importation of carrots from the Republic of Korea to the United States subject to the following phytosanitary measures summarized below:

• Carrots must be commercially produced and may be imported in commercial consignments only.

• Carrots must be grown in places of production registered and packed in packinghouses registered by the NPPO of the Republic of Korea as part of an export program to the United States.

• The NPPO of the Republic of Korea must review and maintain all forms and documents related to export program activities in registered places of production and packinghouses for at least 1 year and make them available to APHIS upon request.

• If the NPPO of the Republic of Korea finds that a place of production or packinghouse is not complying with the requirements of the systems approach, no carrot from the place of production or packinghouse will be eligible for export to the United States until APHIS and the NPPO of the Republic of Korea conduct an investigation and appropriate remedial actions have been implemented.

• Carrots must originate from a place of production that was inspected for signs of fungi of quarantine concern prior to harvest and found free of disease symptoms or must be treated with a broad-spectrum fungicide during the growing season, inspected prior to harvest, and found free of fungi of quarantine concern.

• Carrot taproots must be washed and disinfected, and free of soil and green tops.

• A biometric sample of carrot taproots (jointly agreed upon by APHIS and the NPPO) must be inspected in the Republic of Korea by the NPPO of the Republic of Korea following any post-harvest processing. The biometric sample must be visually inspected for the quarantine pests Helicobasidium mompa and Sclerotinia nivalis. If any quarantine fungi are found, the entire lot of carrots is prohibited from import into the United States. APHIS may prohibit the importation into the United States of carrots from the places of production for the season.

• Each consignment of carrots must be accompanied by a phytosanitary certificate issued by the NPPO of the Republic of Korea with an additional declaration (AD) stating that the consignment was produced and prepared for export in accordance with the operational workplan and inspected and found free of pests of quarantine concern.

• Carrots are subject to inspection at the port of entry into the United States.

• Carrots presented for inspection at the port of entry to the United States must be identified to specify the place of production in which the carrots were produced, and the packinghouse(s), in which the carrots were processed and packed. This identification must be maintained until the carrots are released from the port of first arrival into the United States.

These conditions will be listed in the Fruits and Vegetables Import Requirements database (available at https://epermits.aphis.usda.gov/manual). In addition to these specific measures, fresh carrots from the Republic of Korea will be subject to the general requirements listed in § 319.56-3 that are applicable to the importation of all fruits and vegetables.

Paperwork Reduction Act

In accordance with the Paperwork Reduction Act of 1995 (44 U.S.C. 3501 et seq.), the reporting and recordkeeping requirements included in this notice are covered under the Office of Management and Budget control number 0579-0049.202F; The estimated annual burden on respondents is 362 hours, which will be added to 0579-0049 in the next quarterly update.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Information Collection Coordinator, at (301) 851-2483.

Congressional Review Act

Pursuant to the Congressional Review Act (5 U.S.C. 801 et seq.), the Office of Information and Regulatory Affairs designated this action as not a major rule, as defined by 5 U.S.C. 804(2).

Authority: 7 U.S.C. 1633, 7701-7772, and 7781-7786; 21 U.S.C. 136 and 136a; 7 CFR 2.22, 2.80, and 371.3.

Done in Washington, DC, this 1st day of June 2020.
Mark Davidson,
Acting Administrator, Animal and Plant Health Inspection Service.

[FR Doc. 2020-12202 Filed 6-4-20; 8:45 am]

BILLING CODE 3410-34-P